DEPARTMENT OF THE TREASURY

Submission for OMB Review; Comment Request

July 30, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 4, 2002, to be assured of consideration.

U.S. Customs Service (CUS)

OMB Number: 1515-0051.

Form Number: Customs Form 7523.

Type of Review: Extension.

Title: Entry and Manifest of Merchandise Free of Duty, Carrier's Certificate and Release.

Description: Customs Form 7523 is used by carriers and importers as a manifest for the entry of merchandise free of duty under certain conditions and by Customs to authorize the entry of such merchandise. It is also used by carriers to show that the articles being imported are to be released to the importer or consignee.

Respondents: Business or other for-profit, Not-for-profit institutions.

Estimated Number of Respondents: 4,950.

Estimated Burden Hours Per Respondent: 5 minutes.

Frequency of Response: On occasion.

Estimated Total Reporting Burden: 8,247 hours.

OMB Number: 1515-0052.

Form Number: None.

Type of Review: Extension.

Title: Petition for Remission of Mitigation of Forfeitures and Penalties Incurred.

Description: Persons whose property is seized or who incur monetary penalties due to violations of the Tariff Act are entitled to seek remission or mitigation by means of an informal appeal. The violator has the opportunity to claim mitigation and provides a record of such administration appeals.

Respondents: Business or other for-profit, Individuals or households, Not-for-profit institutions.

Estimated Number of Respondents: 28,000.

Estimated Burden Hours Per Respondent: 14 minutes.

Frequency of Response: On occasion.

Estimated Total Reporting Burden: 6,500 hours.

OMB Number: 1515-0055.

Form Number: Customs Form 3229.

Type of Review: Extension.

Title: Certificate of Origin.

Description: This certification is required to determine whether an importer is entitled to duty-free entry for goods which are: (1) The growth or product of a U.S. insular possession, or (2) Caribbean Basin initiative imports.

Respondents: Business or other for-profit, Not-for-profit institutions.

Estimated Number of Respondents: 10.

Estimated Burden Hours Per Respondent : 22 minutes.

Frequency of Response: On occasion.

Estimated Total Reporting Burden: 113 hours.

OMB Number: 1515-0060.

Form Number: Customs Form 1300.

Type of Review: Extension.

Title: Vessel Entrance or Clearance Statement Form.

Description: This form is submitted upon the arrival of a vessel into the United States. Customs needs this information to record tonnage fees and to obligate the vessel captain to the truth of the manifest.

Respondents: Business or other for-profit, Individuals or households.

Estimated Number of Respondents: 12,000.

Estimated Burden Hours Per Respondent : 5 minutes.

Frequency of Response: On occasion.

Estimated Total Reporting Burden: 21,991 hours.

OMB Number: 1515-0181.

Form Number: None.

Type of Review: Extension.

Title: Line Release/Border Release Advanced Screening and Selectivity (BRASS).

Description: Line Release (new name-BRASS) was developed to release and track high volume and repetitive shipments using bar code technology.

Respondents: Business or other for-profit, Individuals or households, Not-for-profit institutions.

Estimated Number of Respondents: 257.

Estimated Burden Hours Per Respondent : 15 minutes.

Frequency of Response: On occasion.

Estimated Total Reporting Burden: 6,425 hours.

Clearance Officer: Tracey Denning , U.S. Customs Service, Information Services Branch, Ronald Reagan Building, 1300 Pennsylvania Avenue, NW., Room 3.2.C, Washington, DC 20229, (202) 927-1429.

OMB Reviewer: Joseph F. Lackey, Jr., Office of Management and Budget, Room 10235, New Executive Office Building, Washington, DC 20503, (202) 395-7316.

Mary A. Able,
Departmental Reports Management Officer.

[FR Doc. 02-19702 Filed 8-2-02; 8:45 am]

BILLING CODE 4820-02-P